DEPARTMENT OF THE INTERIOR

Bureau of Ocean Energy Management

[Docket ID: BOEM-2018-0016; MMAA1040000; OMB Control Number 1010-0057]

Agency Information Collection Activities; 30 CFR 550, Subpart C, Pollution Prevention and Control

AGENCY: Bureau of Ocean Energy Management, Interior.

ACTION: Notice of information collection; request for comment.

SUMMARY: In accordance with the Paperwork Reduction Act of 1995, we, the Bureau of Ocean Energy (BOEM) are proposing to renew an information collection with revisions.

DATES: Interested persons are invited to submit comments on or before December 26, 2017.

ADDRESSES: Send your comments on this information collection request (ICR) by mail to the BOEM Information Collection Clearance Officer, Anna Atkinson, Bureau of Ocean Energy Management, 45600 Woodland Road, VAM-DIR, Sterling, Virginia 20166; or by email to anna.atkinson@boem.gov. Please reference OMB Control Number 1010-0057 in the subject line of your comments.

FOR FURTHER INFORMATION CONTACT: To request additional information about this ICR, contact Anna Atkinson by email or by telephone at 703-787-1025.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment that addresses the following questions: (1) Is the collection necessary to the proper functions of BOEM? (2) Will this information be processed and used in a timely manner? (3) Is the estimate of burden accurate? (4) How might BOEM enhance the quality, utility, and clarity of the information to be collected? and (5) How might BOEM minimize the burden of this collection on the respondents, including through the use of information technology?

Comments that you submit in response to this notice are a matter of public record. We will include or summarize each comment in our request to the Office of Management and Budget (OMB) to approve this ICR. Before including your address, phone number, email address, or other personal identifying information in your comment, you should be aware that your entire comment—including your personal identifying information—may be made publicly available at any time. While you can ask us in your comment to withhold your personal identifying information from public review, we cannot guarantee that we will be able to do so.

Abstract: The Outer Continental Shelf (OCS) Lands Act, as amended (43 U.S.C. 1331 et seq., and 43 U.S.C. 1801 et seq.), authorizes the Secretary of the Interior (Secretary) to prescribe rules and regulations to manage the mineral resources of the OCS. Such rules and regulations apply to all operations conducted under a lease, right-of-use and easement, and pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1334(a)(8) requires that regulations prescribed by the Secretary include provisions “for compliance with the national ambient air quality standards pursuant to the Clean Air Act (42 U.S.C. 7401 et seq.), to the extent that activities authorized under this subchapter significantly affect the air quality of any State.” This information collection renewal concerns information that is submitted in response to regulatory requirements, such as the regulations at 30 CFR part 550, subpart C, Pollution Prevention and Control that implement section 1334(a)(8). It also covers the related Notices to Lessees and Operators (NTLs) that BOEM issues to clarify and provide additional guidance on some aspects of these regulations. BOEM uses the information to inform its decisions on plan approval and to ensure operations are conducted according to all applicable regulations and plan conditions of approval.

We protect proprietary information according to the Freedom of Information Act (5 U.S.C. 552) and the Department of the Interior's implementing regulations (43 CFR part 2), and under regulations at 30 CFR 550.197, “Data and information to be made available to the public or for limited inspection.”

Title of Collection: 30 CFR part 550, subpart C, Pollution Prevention and Control.

OMB Control Number: 1010-0057.

Form Number: None.

Type of Review: Revision of a currently approved collection.

Respondents/Affected Public: Potential respondents comprise Federal OCS oil and gas or sulphur lessees and states.

Total Estimated Number of Annual Responses: 2,395 responses.

Total Estimated Number of Annual Burden Hours: 105,036 hours.

Respondent's Obligation: Mandatory.

Frequency of Collection: On occasion, monthly, or annually.

Total Estimated Annual Nonhour Burden Cost: None.

Estimated Reporting and Recordkeeping Hour Burden: We expect the burden estimate for the renewal will be 105,036 hours, which reflects a decrease of 6,988 hours, as explained below.

The following table details the individual BOEM components and respective hour burden estimates of this ICR. We assumed that respondents perform certain activities in the normal course of their business that they also satisfy certain requirements under subpart C. We consider these to be usual and customary and took that into account in estimating the burden.

In calculating the burdens, the burden hours decreased from the previous OMB request, because the number of facilities decreased as reported by the Gulfwide Offshore Activity Data System.

Burden Breakdown
Citation 30 CFR 550 subpart C and related NTL(s) | Reporting and recordkeeping requirement | Hour burden | Average number of annual responses | Annual burden hours
Facilities Described in New or Revised EP or DPP
303; 304(a), (f) | Submit, modify, or revise Exploration Plans and Development and Production Plans; submit information required under 30 CFR part 550, subpart B | Burden covered under 1010-0151 (30 CFR part 550, subpart B). |  | 0
303(k); 304(a), (g); and related NTL | Collect and report (in manner specified) air quality emissions related data (such as facility, equipment, fuel usage, and other activity information) during each specified calendar year for input into State and regional planning organizations modeling | * 44 | ** 2,381 | 104,764
303(l); 304(b); 304(h) | Collect and submit (in manner specified) meteorological data (not routinely collected—minimal burden); emission data for existing facilities to a State | 8 | 1 | 8
Subtotal |  |  | 2,382 | 104,772
Existing Facilities
304; related NTL | Submit copy of State-required Emergency Action Plan (EAP) containing test abatement plans (Pacific OCS Region) | 8 | 1 | 8
304(a), (f) | Affected State may submit request with required information to BOEM for basic emission data from existing facilities to update State's emission inventory | 16 | 5 | 80
304(e)(2) | Submit compliance schedule for application of best available control technology (BACT) | 40 | 1 | 40
304(e)(2) | Apply for suspension of operations | Burden covered under BSEE 1014-0022 (30 CFR 250.174). |  | 0
304(f) | Submit information to demonstrate that exempt facility is not significantly affecting air quality of onshore area of a State. Submit additional information, as required | 16 | 1 | 16
Subtotal |  |  | 8 | 144
General
303-304 | General departure and alternative compliance requests not specifically covered elsewhere in subpart C regulations | 24 | 5 | 120
Subtotal |  |  | 5 | 120
Total Burden |  |  | 2,395 | 105,036
* Hours per facility.
** Facilities.

An agency may not conduct or sponsor, and a person is not required to respond to, a collection of information unless it displays a currently valid OMB control number.

We will protect information considered proprietary under the Freedom of Information Act (5 U.S.C. 552) and DOI's implementing regulations (43 CFR part 2), 30 CFR 550.197, “Data and information to be made available to the public or for limited inspection,” and 30 CFR part 552, “Outer Continental Shelf (OCS) Oil and Gas Information Program.”

The authority for this action is the Paperwork Reduction Act of 1995 (44 U.S.C. 3501 et seq.).

Dated: October 20, 2017.
Deanna Meyer-Pietruszka,
Chief, Office of Policy, Regulation and Analysis.

[FR Doc. 2017-23210 Filed 10-24-17; 8:45 am]

BILLING CODE 4310-MR-P